DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending September 30, 2020. For purposes of this listing, long-term residents, as defined in section 877(e)(2), are treated as if they were citizens of the United States who lost citizenship.

Last name | First name | Middle name/initials
ABERER | PASCAL | ALOIS
ADAMKOWSKI | MARGARET | PAULINE
ADIJANTO | JONATHAN | MICHAEL
ADSHEAD | JAMES | BRETT
AKRE | CHRISTINA | S.
ALDINGER | BENJAMIN | LUCAS
ALLEN | GARY | ANDREW
ALVAREZ | JOAQUIN | MARCELO
AMMANN | PATIRCK | S.
ANABTAWI | CHARMINE | ALENANDRA
ANDERAU | STEFAN | ANDREAS
ANDERSON | DALE | PETER
ANDRE | DIANA |
ANTABI | BANDAR | MALEK
ANTON-SMITH | CAROLINE | I.
ANTOSIEWICZ | EVELYN | JEANETTE
ANTREASYAN | SEVAN | JONAS
ARCHAMBAULT | MIA | WARREN
ARIE | MAYUMI |
ARITOMO | KELICHI |
ARNET | CAMILLE | ERIKA YOLANDE
ARONSON | CATHERINE | MADELEINE
ASH | ABIGAIL | AUGER
AVIERINOS | JEAN-BAPTISTE | FREDERIC
BACCHETTA-DIAZ | LEONARD |
BACHMANN | JEREMY | ALEXANDER
BACHSTEIN | ALEEXANDER | ERIK
BAEHLER | BALZ | M.
BAIRD | CHARLES | LESTER
BAKER | DIANA | GAIL
BALDOCK | VIRGINIA |
BALLAND | CAMILLE | THOMAS
BALOGH | SUSAN | EASTERBERG
BANGERT | MANFRED | JAMES
BARBEY | SONIA | GRIGGS
BARK HAGEN | FRANZISKA | ANNA
BARLETT | RICHARD | PHILIP
BARNETT | RICHARD | WAYNE
BARTON | JOAN | ELIZABETH
BAUTZ | JESSICA | MARLINE
BAYNE | JASON | PHILIP
BEALE | ELIZABETH | SUMMER
BELAMARIC | ALIZEE | SOFIA
BENDER | AMY | MICHELLE
BENNER | SARAH | JEANNETTE
BENNETT | CHERYL | A.
BENSON | ROBERT | ARTHUR
BERGER | CONNIE |
BERGER | ELIZABETH |
BERNET | EVELYN | WANDA MARIA
BIELLMANN | PAUL | JOSEPH
BILLYARD | STEPHEN | ALEXANDER
BIRNBAUM | SANDRA | GAIL
BIRNER | KATRIN |
BIRNER | THOMAS |
BISHOP | SUSAN | MARY
BJORNVOLD | INGVLID |
BLANC | CHRISTINE | ODETTE
BLANCO JR | MANUEL | PETRACHE
BLOM | CHRISTINE |
BLOMJOUS | ELISABETH | MAGDALENA MARIA
BLUMER | JEAN-MARC |
BOEHM | ERIKA | SIGLINDA
BOGAN | ERICA | MARIA
BOGGIO | FRANCESCA | CHIARA
BOHREN | JORIS | ANDREW
BOSCH | DAVE | VAN DEN
BOTTCHER | ERIK | CHRISTIAN
BOUCHARD | JAMES | ERNEST
BOURGEOIS | JEFFREY | ALLAN
BOURGUET | ERIC MARIE | FRANK LOUIS
BOYAPATI | ADITHYA |
BRADLEY | ALEXANDER | VAN VLECK
BRAFMAN | FRANCES | DOREEN
BRAGGIOTTI | SERENA |
BRANDEAUX | KAY |
BRAUER | SUSANNE | MARGOT
BREMER | SABINA | HARTENSIA
BRENNAN | KAREN | KATHLEEN
BRENNINMEIJER | JULIAN | MFJ
BRICH | LUDMILA |
BROADWELL | MARY | PATRICIA
BROCKHAUS | MARC | PETER
BROCKHAUS | SARA | V.
BROSCH | ELISABETH | CHARLOTTE MARIA
BROWN | JAMES | MICHAEL
BROWN | PAUL | BRADLEY
BRUDER | CARL | EMIL GEORGE
BRUNNER | LAURA | LEE
BRYMER | CHRISTOPHER | DAVID
BUETTEL | SEBASTIAN | ANDREAS
BUI | QUANG | L.
BUNDI | LILLY |
BURCH | DONALD | EUGENE
BURG | ANDREW | RENE PAUL
BURKART | ANN | MARIE
BURKE | GORDON | JOHN ELMORE
BURKE | RANDALL | PETER
BURTON | FRANK | WARREN
BUSCHARDT | ANDRES | FRANK
CACCHIONE | PATRICIA |
CALAME | FREDERIC | JEAN LUC
CALLANT | ROBERT |
CARTER | TENNILLE | MARIA
CATANIA | ANNA | ANTONINA
CATOIR | LINDA | MARIA
CHAN | ESTHER |
CHAN | KELVIN | KA FAI
CHANDLER MERZ | SHALONA | LEI
CHANG | MICHELLE | KYONG-WHA
CHASSOT | JONATHAN | LAURENT DOMINIQUE
CHEN | HOI TING | ROSETTA
CHENG | CANDICE |
CHEUNG | VINCENT | WAICHUNG
CHIANG | CHUNG-CHIEN |
CHOW | CHUNG | YIU
CHU | MEGAN | CHAW WEI
CLAMENS | CLARA MARIE | NAATHALIE SYBIL
COCKBURN | JENNIFER | LOUISE
COELHO | ELLEN | ANN
COFFENG | WENDY | LOIS
COKER JR. | PETER | LEE
COLON | WILLIAM | THANE
COOMBS | CAROLINE | ADELE
COONEY | CASSANDRA | LEA
COOPER | RICHARD | C.
CORBETT | RUDI | ELLIS
CORREA | LORENZO | MOISES
COWAN | TESSA | BEATRICE
CROCKER | KENNETH | MONROE
CROSTHWAITE | ALISON | LEE
CROSWELL | MATTHEW | CLINTON
CRUM | ROBERT | BLONDEAU
CRUZ | CHRISTEL | LINNEA
CUDMORE | JANIS | M.
CUMMING | NANCY | A.
CYBUL | BORIS | DANIEL
DAILLY | BOUDEWINE | DOROTHEA
DAKIN | JAMES | LLOYD
DANIEL | RITA |
DANOWSKI | GUSTON | SPENCER
DANOWSKI | HENRY | SPENCER
DARBYSHIRE | CHRISTOPHER | W.
DARYANI | DINA OMAR | ABDEL-HADI
DASTI | JULIE | KAREN
DAVENPORT | TRACEY | M.
DAVI | EDWARD | EDWIN
DAVIDSON | STEPHEN | TIMOTHY
DAVIS | EDITH | J.
DE CARO | OLIVER |
DE GEEST | SABINA | MARIA JOHANNA
DE GRAAF | ANNABELLE |
DE NAVACELLE | HENRI | C M C CADY ROUSTAND
DE TEO | ETHAN | YI
DE VRIES | SHIRLEY | MUELLER
DECARO | PATRICK |
DEDOMING | EVA | NICOLE
DEMANDT | PIETER JOHN | PATRICK
DER EXTER | TARYN WALSH | VAN DER ZOUWEN
DERSTROFF | MARGA | CHRISTINA
DESIDERI | GLORIA |
D'ESTAING | PIERRE | LOUIS GISCARD
DEVEREUX | CAROL | ANN
DEVEREUX | HELEN |
D'HUC | ALICE | LILIANE
DIBIASE | JANICE | LOUISE
DILLINGHAM-LUTZ | ANDREA | COLETTE
DISHER-MULHOLLAND | CATHERINE |
DONCK | MARIE | EVELYNE
DORRANCE | DAVID | NEIL
DOWRIDGE | CHRISTIAN | ALEXANDER
DREBINGER | KONRAD |
DREVNIOK | CHARLES | WILLIAM
DUBOIS | MARC | GASTON
EDWARDS | DESMOND |
EGGER | CARLO | YANNIK
EISENHUT | MELANIE | STEPHANIE
ELLENS | TREVOR | LEE
ERARD | CHARLES | HENRI
ESCALANTE | SHEILA | MAUREEN
ESQUIVEL | JANE | BEVERLY
EVANS | JERA | CECELE
FANKHAUSER | JENNIFER | CHANTAL
FELDMAN | DAMUEL | JAY
FELDMAN | LISA | D.
FERNANDEZ | ANNALEA |
FEUTREN | JEAN-LAURENT | EMMANUEL
FITZMAURICE | SIOBHAN |
FITZPATRICK | MARK | AVERY
FIVAZ | JULIETTE | CYBELE
FLURI | CLEMENS | WOLFGANG
FLYNN | PAUL | TERRANCE
FOLKINS | DEVEN | RAY
FREEDMAN | AYRIE | LAYNE
FREY | NICOLE | CECILIA
FREY-SANG | ROSE | HELENA
FROEHLICH | KERSTIN | L.
FROIDEVAUX | CARMEL | REGINA
FRY | VICTOR | LEE
FUEGLISTALER | TITUS | URS
FULLER | KAORI |
FUNFSCHILLING | FRANCOISE |
FURTH | DIANA | ALBERTA
GAGE | SHELLY | RAE
GAL | JENNIFER |
GALBRAITH | LUCINDA | ANNE
GANNAWAY | IAN | JAMES
GANS | MICHAEL | JACQUES
GARAU | PAOLA |
GARDNER | KENNETH | ROBERT
GARRETA | CATHERINE | JEANNE
GATES | JERI | ELISE
GAYER | ROLF | DAVID
GEIISEN | NIELS |
GERTSCH | CHRISTIAN |
GHEBE | WADDAH | H.
GIBSON | ANNE | MARGARET
GILBERT | DIANNE |
GILGEN | THOMAS | MARTIN
GINTHER | DAVID | NATHAN
GLICK | MARCIA | JOAN
GLUNZ | ULRIKE |
GOETTSCH | STEFAN |
GORMAN | DAMIAN | LEE
GOTTESMAN | AVRAHAM |
GRAF | STEFANIE | MARIE
GREK-YALIPSOS | DAPHNE |
GRIMM-WALTHER | NINA |
GROSS | JOEL |
GRZESIEK | ANDREAS | GLEN
GUEST | LISA | ANN
GUNTHER | KEIL | ANNE
GWERDER | LOUIS | FRANK
HAAS | JOELLE | SERENA
HADLEY | CHRISTIAN | BRADBURY
HALDER | HANNAH | MARIE
HALLPERIN | VOLT | N.
HALVERS | ROGIER | LEONARD
HAMAKAWA | KEIKO |
HAMMONS | SUSAN | ELIZABETH
HANLEY | GEOFFREY | IAN
HANSEN | ERLEND | HENDRIK BOGAARD
HARDCASTLE | JASON NG | TAI LONG
HARRINGTON | STEPHAN | A.
HARTLEY | LUKE |
HARTZLER | LEONARD | DUANE
HARTZLER | DEVIN | JAY
HARTZLER | JUDITH | EVE
HATHORN | SARAH |
HAUG | SAMANTHA | WALBURGA
HAWKINS | CHRISTINE | ANNE
HAYASHI | KENTARO | THOMAS
HAYES | KATHERINE | ALEXANDRIA
HEALY | IAN | PATRICK
HEINE | OLIVIA | KATINKA
HEINZ | RICHARD | STEFAN
HENDERSON | KAREN | MARIE
HICKMAN | JUDITH | ANNE
HILD | BERNARD | FRIEDRICH
LYGHT HIMES | GAYLE | J.
HIMMELMAN | RYAN | DAVID
HINDERLIDER | HUGH OWEN | DANA
HIRATA | HIDEO |
HIRATA | TOMOKO |
HITT | CHRISTINA | DANIELLE
HO | ROSELYNN |
HODGINS | MARK | JAMES
HOFSTAETTER | URSULA |
HOGAN | CAROLINE JULIET | KINGSMILL
HOLDEN JR | JAMES | PHILLIP
HOLENSTEIN | ROBIN | BRUNO
HOLROYD | BRIAN | ROSS
HOLT | ROBYN | B.
HSU | CHENG KUANG |
HSU | MEI-YIEH | HUANG
HSU | PORNCHAI | SAE-SING
HSU | YUH | RONG
HUANG | JACK | JT
HUBER | ANTONI | EDUARDO
HUBER | SABRINA | NICOLE
HUERLIMANN | SHANNON |
HUERZELER | FABIAN | M.
HUGHES | DAVID | RANDOLPH
HUI | HAILONG |
HULSMAN | SAINAH | JULIANA
IGUCHI | SAORI |
IKARI | IKUKO |
ILLNER | MARTIN |
IMHOOF | JON | ANDREW
IRLE | PIERR-ADRIAN | ERNEST
IRWIN | ARTHUR | CAMPION
IRWIN | KELLY | J.
ITO | CHIE |
JACOB | VLADIMIR | GUILLAUME
JACQUEMIN | ALIX | AUDE MARIE
JACQUEMIN | HUGUES | STEPHANIE MARIE
JAFARPOUR | AHAD | SABBAGHY
JALLADE | SEBASTIEN |
JAMAIL JR | THOMAS | EDMOND
JANSSEN-MONTANDON | PATRICIA ANN |
JAUSLIN | CORINNE | ANTOINETTE
JAWAD | KUMAIL | MOHAMED
JEANNOT | JESSICA | JOY
JENDLY | JONAS |
JENNINGS | MANUELA |
JOCKIN | NORA |
JOCKUSH | CHRISTINE | ANNE
JOHNSON | RUPERT | BRENT
JOSEPHSON | LISA | JENNIFER
JOSHI | GAYATRI | AMOL
JOST | VALERIE | ANITA
JUERGENSEN | JUERGEN | JENS
JUNEANTO | JUWITA | KUSUMAWATY
KADIHASANOGLU | AYNUR |
KAEGI | EDITH | MARIA
KAELIN | KATHARINA |
KALEMBER | DAYNA | LYN
KALYANPUR | ADIL | BHARAT
KANDE-STAEHELIN | BETTINA | MADELEINE
KANOFF | MICHAEL |
KAPLAN | MARGERY | JOAN
KATZ | SHARON | D.
KATZ | SHARON | DEBORAH
KAY | DARIUS | PAUL
KELLER | IRIS | BRIGITTA
KELM | AMELITA | CUBANGBANG
KIBBE | DAVID | PAUL
KIBBE | STUART | CAPRON
KINGSTON | BEN | LOGAN
KIRK | DANAE | CASSANDRA
KITAO | SAGIRI |
KLEIN | HEIDI | ANNE
KLOSS | BRITT | LOFSTRAND
KMETKO | TOMAS |
KOBAYASHI | SHIORI | ALICE
KOHATA | MICHIKO |
KOHLER | MARIANNE |
KOLENDA | SARA | CATHERINE
KOLLBACH | MARIA | VERONICA
KOSTOFF | JOHN | EDWARD
KOTTHAUS | CHRISTA |
KOTWAL | ASHOK | GOPAL
KOTWAL | BHARATI |
KOVAC-MAJOR | PATRICIA | ELIZABETH
KOVAN | MARTIN | EDWARD
KRAEGEL | JEFFREY | JOHN
KRENGEL | SVEN | THORSTEN
KRICHEVSKY | NICOLAI | DAVID
KRIEGER | NANCY | MARIE
KRISNAKUMAR | KARTHIHA |
KRONENBERG | DOMINIQUE | DANIEL
KUHNLE | CHRISTIAN |
KUIPERS | CHRISTOPHER | SCOTT
KULL | CHRISTIAN | ARTHER
KUSHIMA | MAKI |
KUSHIMA | RYOTARO |
LACKER | TIM | JONAS
LAEMMLI | CHRISTINA | NATALIE
LAFERTE | JEANETTE |
LAJTHA | CHRISTOPHER | ALASTAIR JOHN
LAKEY | BILLY | WAYNE
LALONDE | CARL | MICHAEL
LAMA | KALSANG | P.
LANG | DAVID | JOHN
LANG | KEVIN | RICHARD
LASETZKY | TERESA | CHRISTINE
LASSITER | CAROLINE | GABRIELLE
LAU | WINNIE | WING YEE
LAW-SMITH | KEVIN | GRAHAME
LE MENER | LOU-ANNE |
LEA | RACHEL | ELIZABETH
LEAO | ANNA | MARIANI CARNEIRO
LEECH-PORTER | KALEN | ROBERT
LEENDERS | MATTHEUS | J M
LENARD | DENNIS | JOHN
LERNER | BETTINA | J.
LERNER | MICHEL | NICHOLAS
LEVE | CAROLINE | IRENE
LEVI | JULIE | GAIL
LEVINE | ANNE |
LEVITT-DALLAS | JAMIE | LAUREN
LEWIS | RICHARD | CLAYTON
LI | JULIA ALEXANDEROVNA | KHAKHALEVA
LI | JUN |
LI | LAURA AI | LAN
LIAN | KRISTO | NUGRAHA
LIBFELD | RACHEL | SHARON
LIBFELD | STEVEN | AARIN
LIEBE | BIRGIT |
LIGHTBURN | BENJAMIN | THEODORE
LIMOR | ROY |
LINK | KARL | ROBERT JOHANN
LIPIEC | CHERI | LYNN
LIPIEC | KAILEE | ALAYNE
LIPIEC | MICHAEL | DAVID
LIPPMAN | STEVEN | MARC
LISTOPAD | DENNIS |
LITTLE | ROBERT | B.
LIU | GEORGE | K.C.
LIZOTTE | JEAN-MICHEL |
LO | EUGENE | SEAN
LOCNIKAR | SILVIA | A.
LONG-RILEY | STEPHANIE | JEAN
LORETAN | TIMOTHY | JOSEPH
LOVIC | CAMILLA | B E.
LOVIC | CAMILLA BLANCA | ELOSIA
LUCENAY | NATASHA | SUTHERLAND
LYALL | ANTHONY | JAMES
MA | ERIC |
MACDONALD WILKIE | JAMES | ADAM
MACGREGOR | KATHERINE | ELIZABETH
MAEGLI | ALINE |
MAGGISANO | MELINDA | ANNE
MAHAN | MARILYN |
MAHAN | THOMAS | FINLEY
MAHONEY | MICHELLE | SIMONE
MAILLARD | MARIE | NICOLE
MALERBA | MARIE-AUDE | JEANNE NEMO
MAMPELL | PETER | ERIC THEODORE
MANKTELOW | ANNE | EILEEN
MANUZZI | ALEXANDER | ALVARO
MARCAZZO | HANNAH | SUSAN KATHLEEN
MARCEAU | JONI | GAYLE
MARISTANY | GERARDO |
MARKS | GORDON | EMERY
MARKS | RYAN | STEWART
MAROCCO | KEIKO |
MARSHALL | MARY | JANE
MARTI | CHRISTOPH | JAMES
MARUSKA | MARY ANN | DALY
MATHEWS | CHRISTIAN | J.
MATHY | CARYN | MARIELLE
MATSUO | ASAMI |
MAY | TRACEY | LOUISE
MC QUILLEN | MATTHEW | FRANCIS
MCCUSKER | STEPHANIE | LOUISE
MCMECKAN | HILARY | RUTH
MEIXNER | OSCAR | G.
MERCIER-COINTREAU | RICHARD | MAURICE JACQUES
MERTENS | NICOLE | MARGO
MEYER DE STADELHOFEN | SARAH | VEAL
MICHAELS | STASE |
MILLER | THOMAS | OWEN
MITTON | ROBERT |
MITZEN | ANDREA | CHRISTINE
MIXSON | ANDREW | THOMAS
MIYAMOTO | YUMIKO |
MIYAZAWA | YUGI | JOHN
MOGSTAD | ROLF |
MOHLER | STEVEN | MICHAEL
MONRO-DAVIES | BENEDICT | PHILIP ALEXANDER
MONTANO | TERESA | A.
MOOR | FRANCA | CORINA
MOORE | RICHARD | B.
MORAGIANIS | ANASTASIA |
MORALES | ALEJANDRO | MARTIN
MORGAN | KEVIN | MATHEW
MORI | LISA | SABINA
MUELLER | WARREN | PETER
MULYANTO | MONICA | LYNN
MYUNG | JAYHYUK |
NADEAU | NOELLE | MARIE
NAHMIAS-MATTEUCCI | LAURENCE | INNA
NAIBERG | LISA | CANDACE
NARCISO | DESIREE | LIZETTE
NAU | JUDITH | LEE
NEUBRAND | SALLIE | RUSSEL TRUE
NEUTZLING | IRENE | W.
NEWBOULD | CARELIA | S.
NEWTON | NICHOLAS | JOHN
NICKEL | CAROLE | ANN
NICOLOPOULOS | THEODORA |
NIGEL-ANLIKER | SUSAN | B.
NISHIO | MARY | LOU
NITZSCHE | ERNST | ALFRED
NITZSCHE | NICOLA | JANE
NOAKES | NANCY | LOUISE
NOBLE | BRENT |
NORMAN | SHERYL | ANN
NORTH | MACLAREN | ANDREW
OBRIEN | CHRISTINE | ELIZABETH
OBRIST | SEVERIN | LUKAS
ODENTHAL | KARIN |
OGLE | DYLAN | MICHAEL
OKIYAMA | YASUHIKO |
OLMI | ALISON | CATHERINE
ONCLIN | LISBETH | I.
ONGKOWIJOYO | RONNY |
ORNEST | JOHN | LESTER
ORTIZ | RUTH |
OSBORNE | DANIEL |
OSTOJIC | JOAN | EMMA
OUYOUB | HAMID |
PAGE | JASON | WAYNE
PALEPU | ANITA |
PANDE | MOHIT |
PANDE | MOHIT |
PARIKH | SACHIN | J.
PARKER | TAMSIN |
PASSAMONTI | LUCA |
PATEL | CHINTAN |
PATHMANATHAN | WIJEYANAND |
PEARSON | DONALD | JAMES
PEARSON | SARA | LYN
PEARSON | SUZANNA | NANCY
PEAT | NANCY | B.
PEDLOW | GABRIELE | MARIANNE
PEDRO | FLORENCE | ROSE BEATRICE
PEMBERTON | JEREMY | WINGATE
PEPLER | CHRISTIAN | C.
PERL | AMICHAI | DAVID
PETCH | CHRSTOPHER | JOEL
PFENNINGER | REBECCA | FRANCES
PFLUGER GRANDI | DANIELLE | CHRISTINE ERSILIA
PIECZONKA | ROSALIND | MARIE
PITT | DEBORAH | BARTLETT
PITT | MICHAEL | HENRY
PLISCHKE | MARY | SCHNEIDER
PORRECA | JOSEPH | CESIDIO
POULIN | MONIKA | A.
PRAETORIUS | INGE | HELGA
PRINGLE | GREGORY | ALAN
PUTNAM | GREGORY | ARTHUR
RABON | CAROL | ANN
RAE | ANDREW | DUNCAN
RAE | KIMBERLY | ANN
RAMOS | RODOLFO | BRAJCICH
RAWSON | CLAUDE | J.
RAY | JEANNINE | MARIE
RAY | LUCRETIA | NORMAN
RAYL | SARAH | MOKGADI
RAZ | SHALEM |
REDDEN | DOMINIC | JOHN
REED | TRISTAN | DENIZ
REGENASS | JOHANNES | ARTHUR
REGUEIRO | TESSA | CELINE
REID | VALERIE |
REINTZ | KNUT |
REMIE | CHRISTOFORUS | STEFANUS MARIA
RHODIN | LINDSAY | NATHANIEL
RILEY | WILLIAM | DEARLOVE
RINTOUL | PETER | DAVID
RIZO-PATRON | JOSE |
RO | JUYI |
ROBERTS | JAMES | MARK
ROMANIN | ALESSIA | JENNIFER
RONDEAU | ANNE-SOPHIE | MARGUERITE MASUREL
ROSENBERG | MICHAEL | GEOFFREY
ROSENBUSCH | ANDREA | ELISABETH
ROSSMANITH | MATTHIAS | P.
ROY | CHRISTINE | GENEVIEVE SUZANNE
RUDIN | ANNIKA | LISA
RUSSELL | KATHLEEN |
RUSSELL | PETER | T.
RUTHERFORD | REBECCA | JANE
SACHSE | STEFFEN | D.
SADOWSKI | DEBRA | RUTH
SALAMAT | MEHDI |
SALOMONS | ROBERT | WAYNE
SANDBERG | JOYCE | C.
SANDFORD | GILLIAN | H.
SANOFF | VICKI | LYNN
SANTOSO | DEMITRIA | NARANTI
SAUTEROT | SIMONE |
SAUVEE-YETTER | CHRISTINE |
SAVAGE | SANDRA |
SCHAEFER | JOERG |
SCHAFER | HALEY | LORENE
SCHIEF | GABRIELA | EVELYN
SCHLUEP | OLIVER | CHRISTIAN
SCHNELL | MATTHIAS | BRIAN
SCHOCH | FREDERIKE |
SCHROEDER | AKIRA JENS-FREDERIK | MURAKAMI
SCHWARTZ | GORIA | R.
SCHWIEGER | FLORIAN |
SCIOSCIA | LINDA | SUE
SEIDEL | PAUL |
SEIXEIRO | APRIL | G.
SEIXEIRO | STEVE | F.
SELBY | LI KIM | ELIZABETH THOREN
SELVA | JULIA | PATRICIA
SELVA ESS | DEBRA | JULIE
SERRA | KEVIN | THOMAS GERRIT
SETT | MERRILEE |
SHAUGHNESS | PATRICK | MATTHEW
SHELLEY | VERONICA |
SIBRAVA | IVANA |
SILVERMAN | DAVID |
SIMON | RICHARD |
SIMPSON | JENNY | MARGUERITE KAROLINA
SIMPSON | RUDOLPH | O.
SKAPINKER | ARI | D.
SMITH | AMY | J.
SMITH | DYLAN | KEMPE
SMITH | MARGRET | ALICE
SMITH | NICHOLAS | COURTNEY
SMITH | WAYNE | TRACY
SNYDER | GEOFFREY | SYLVAIN
SOBRADO | CARLOS | EDUARDO
SOLOMON | ALEXANDRE | DANIEL
SOMMER | ANNINA |
SPRAY | VIRGINIA | A.
STAHR | PAMELA | ALEXANDER
STAMM | ROBERT | WOLF
STAVRIOTIS | MICHIKO |
STEBBINS | RANDALL | EDWARD
STEDMAN | TRACY | N.
STEINSTO | CHRISTINE |
STERNBERG | LESILE | EDEN
STEVENSON | DARRYL | ALEXANDER
STINE | ERIC | JOSEPH
STONEY | ELIZABETH | FILLEBROWN
STUCKI | ZENIA |
SUTTER | BRENT | COLIN
SZABO | STEVEN | MICHAEL
SZCZESNIAK | THOMAS | RAYMOND
SZEREMETA | NIKA |
SZREDNI | DANIELLE | BATSHEVA
TAIRA | KAZUFUMI |
TAK | TAE | MOON
TAKAHASHI | HIDEO |
TAKAYAMA | SHOU | LEONARD
TANAKA | AKIRA |
TANAKA | HIDEAKI |
TANAKA | NORIYUKI |
TAUZER | SASHA | TOMCZUK
TAYFUN | TARIK |
TAYLOR | REBECCA | LYNN
TAYLOR-HELL | JULIA | FAYE
TEJADA | BONNIE | KAY
TELLER | MARCUS | WALTER
TESHIMA | TATSUHISA |
TESHIMA | TOMOKO |
TESSIER | PATRICIA | LEA
THERIVEL | RIKI | BETTINA
THOMAIDIS | STEFANOS | E.
THOMAS | KARIN | ELIZABETH
THOMAS | RITA | LOUISE
TJANDRA | MATTHEW | NATHAN
TOMLINSON | IRENE | L.
TOYOTA | MITSURU |
TOYOTA | TERUKO |
TROST | LAURA | LOTTE
TSANG | TZE | LAI ALVIN
TSANG | YOLANDA | YUEN CHING
TUCK | JAMES | ALEXANDER
TUNISTRA | BOUKE | FOKKES
TURLAPOV | ANDREY | V.
TURNER | MARILYN | ELIZABETH
TYLER | ALICE | H.
TYLER | FRANCIS | S.
ULIVI | JOHN | SEBASTIAN
UNTERLECHNER | CHRISTIAN | WALTER
USUI | SACHIYO |
VAN AARLE | FRANCISCUS |
VAN BORSELEN | DIRKJE | ROZEMOND
VAN DEN BOS | RONALD | LEENDERT
VAN DER GOES | DEBORAH | HELEN
VAN DER TOL | ALEXANDRA | LEONIE
VANDEPUTTE | MARC | CYRIEL
VANVLIET | GUNNAR |
VAVELIDIS | EFSTRATIOS |
VELLA | CHRISTOPHER | M.
VIARENGO | CYNTHIA | CAROL
VIS | BARBARA | ELLEN
VIS | KARIN | MARIJKE
VITALE | MARK | LAERENCE
VLIEG | HEDWICH | CHRISTIEN
VOGL | CHIARA | THERESA
VOLLERTSEN | RENATE | ELISABETH
VON BARLOEWEN | DANIEL | WILLIAM
VON SCHULTHESS RECHBERG | CRAIG | PHILLIP
WAGNER | ERIC | JOHN
WALKER | KATHERINE | LYNETTE
WALKER | THOMAS | LEE
WALTHER | LAURA | J.
WAN | HONGYAN |
WANAMBWA | CHRISTOPHER | KISAKA
WANG | JACKIE |
WANG | QUN |
WARD | LYNDA | G.
WARD | ROBERT | GAVAN
WATANABE | AKIKO |
WATANABE | YUIKA |
WEBB | CHRISTOPHER | RAY
WEBBER | KENNETH | IRVING
WEISBERG | OLIVER | PAUL
WELCH | JONATHAN | HOARD ROY
WELLINGER | ALEXANDER | PAUL JOHN
WELLS | SHEILA | JANET
WETTSTEIN | MARKUS | FELIX
WHEATLEY | LOUISE | RUSSELL
WIELER | DAVID | PATRICK
WILDEN | JASMIJN | VAN DER
WILDHAGEN | CAROL | REBECCA
WILLIAMS | ALEC | EDMUND RUSSEL
WILLIAMS | JOHN | DUDLEY
WILLIAMSON | HILARY | JANE
WILLINGHAM | KATHLEEN |
WILSON | NORINE | ELLEN
WINTZENRIETH | FABIEN | HUBERT GILES
WIRJAWAN | DIANDRA | DAHLIA
WITSCHI | LARA |
WOFFORD | EMILY | ANN
WONG | VASSKA |
WOODSIDE | BURTON | SHANTI
WOODWARD | BRANDON | SCOTT ARELLANO
WOOLF | ANDREW | L.
WOOLF | MICHELLE | A.
WORDEN SAUNDERS | CHRISTOPHER | FRASER
WRAGGE | BALLINGER | THOMPSON
WURMBACH | ACHIM | JOHANNES
XIONG | YUJIE |
YABROFF LEBRUN | LEE | M.
YAMAMOTO | TATSUYA | RICHARD
YEH | MICHAEL |
YEN | MIMI | WONG
YOSKOWITZ | YEHUDA |
YOUNG | MATTHEW | D.
YU | HONG | LING
YUNG | NGAN | HAU
ZAAL | CAROLINE | ANNA ELISABETH
ZAENGERLE | ERIC | JOEL
ZALAPSKI | ZEN |
ZANDER SCHULZ | VICTORIA | THERESE
ZAPATER | CONSTANZA |
ZENUK | TANYA | E.
ZHI | XUEYAN |
ZIMMER | ELEANOR | LENA
ZIMMERMANN | DONALD | LLOYD
ZOLKOWER | RICHARD | JAY
ZWARTJES | SASKIA | JOSE

Dated: October 23, 2020.
Godofredo F. Burgos-Rodriguez,
Manager Classification Team 82413, Examinations Operations—Philadelphia Compliance Services.

[FR Doc. 2020-23993 Filed 10-28-20; 8:45 am]

BILLING CODE 4830-01-P